DEPARTMENT OF AGRICULTURE

Submission for OMB Review; Comment Request

March 3, 2022.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 8, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Organic and Transitional Education and Certificate Program.

OMB Control Number: 0560-0304.

Summary of Collection: As USDA is providing assistance through the Coronavirus Aid, Relief, and Economic Security Act (CARES Act; Division B, Title I, Pub. L. 116-136), Farm Service Agency (FSA) has created the Organic and Transitional Education and Certificate Program (OTECP) for certified operations and transitional operations that incurred eligible expenses in FY 2020, 2021, and 2022. Producers and handlers incur significant costs to obtain or renew USDA organic certification each year, and the economic challenges due to the COVID-19 pandemic have made obtaining and renewing USDA organic certification financially challenging for many operations.

Need and Use of the Information: In order for FSA to determine whether a producer is eligible for OTECP and to calculate a payment, an applicant is required to submit form FSA-883, Organic and Transitional Education and Certification Program (OTECP). Applicants must also have the following forms on file with FSA: AD-2047, Customer Data Worksheet, and SF-3881, ACH Vendor/Miscellaneous Payment Enrollment Form. The information collection request is required for the producers and handlers to provide their status as either a certified operation or transitional operation and their eligible expenses to get the OTECP payments.

Description of Respondents: Businesses or other for-profit and Farms.

Number of Respondents: 13,250.

Frequency of Responses: Reporting; Other (one-time).

Total Burden Hours: 22,450.

Ruth Brown,
Departmental Information Collection Clearance Officer.

[FR Doc. 2022-04909 Filed 3-8-22; 8:45 am]

BILLING CODE 3410-05-P